DEPARTMENT OF THE TREASURY

Internal Revenue Service

26 CFR Part 31

[REG-104143-05]

RIN 1545-BE32

Application of the Federal Insurance Contributions Act to Payments Made for Certain Services; Correction

AGENCY: Internal Revenue Service (IRS), Treasury.

ACTION: Correction to notice of proposed rulemaking.

SUMMARY: This document corrects a notice of proposed rulemaking (REG-104143-05) that was published in the Federal Register on Friday, August 26, 2005 (70 FR 50228). The document contains regulations relating to payments made for service not in the course of the employer's trade or business, for domestic service in a private home of the employer, for agricultural labor, and for service performed as a home worker within the meaning of section 3121(d)(3)(C) of the Internal Revenue Code.

FOR FURTHER INFORMATION CONTACT: Paul Carlino, (202) 622-0047 (not a toll-free number).

SUPPLEMENTARY INFORMATION:

Background

The notice of proposed rulemaking (REG-104143-05) that is the subject of this correction is under section 3121(d)(3)(C) of the Internal Revenue Code.

Need for Correction

As published, REG-104143-05 contains an error that may prove to be misleading and is in need of clarification.

Correction of Publication

Accordingly, the notice of proposed rulemaking (REG-104143-05), that was the subject of FR Doc. #05-16944, is corrected as follows:

§ 31.3121(a)-2 [Corrected]

On page 50231, column 2, § 31.3121(a)-2, paragraph (d)(2), third line from the bottom of the paragraph, the language “paragraph (d)(2), see § 31.3102-1 in” is corrected to read “paragraph (d)(2), see § 31.3121(a)-2 in“.

Cynthia Grigsby,
Acting Chief, Publications and Regulations Branch, Legal Processing Division, Associate Chief Counsel (Procedure and Administration).

[FR Doc. 05-18468 Filed 9-15-05; 8:45 am]

BILLING CODE 4830-01-P